DEPARTMENT OF HEALTH AND HUMAN SERVICES

Administration for Children and Families

[Office of Management and Budget #: 0970-0548]

Proposed Information Collection Activity; Tribal Budget and Narrative Justification Template

AGENCY: Office of Child Support Enforcement, Administration for Children and Families, U.S. Department of Health and Human Services.

ACTION: Request for public comments.

SUMMARY: The Office of Child Support Enforcement (OCSE), Administration for Children and Families (ACF), U.S. Department of Health and Human Services (HHS), is proposing to renew the collection of expenditure estimate forms for the tribal child support program through an optional financial reporting form, Tribal Budget and Narrative Justification Template (Office of Management and Budget #: 0970-0548; expiration date May 31, 2026). Minor changes are proposed. OCSE does not plan to renew either the Word version or the Excel 1115 Waiver version of the Tribal Budget and Narrative Justification Template.

DATES: Comments due April 13, 2026.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION:

Description: To receive child support funding under 45 CFR part 309, tribes and tribal organizations must submit the financial forms described in 45 CFR 309.130(b) and other forms as the Secretary may designate, due no later than August 1 annually. This optional template is designed for tribes operating an approved tribal child support program to use in preparing their annual budget and narrative justification estimates in accordance with the tribal child support enforcement regulations. The optional Tribal Budget and Narrative Justification Template helps improve efficiency and establish uniformity and consistency in the annual budget submission and review process. Tribes may use the Excel template or their own format to submit the required financial information.

OCSE has made minor revisions to the Excel template by updating citations and hyperlinks from 45 CFR part 75 to 2 CFR part 200. Other changes include edits to examples in the Excel sample budget to reflect the adoption of 2 CFR part 200 and updated formula errors in the Excel document. OCSE proposes to discontinue the Word template since it is not used.

Respondents: Tribes and Tribal Organizations administering a tribal child support program under title IV-D of the Social Security Act.

Annual Burden Estimates

Burden estimates are for all tribes to provide budget information, as required, using either the ACF provided template or their own format.

Instrument | Total number of respondents | Annual number of responses per respondent | Average burden hours per response | Annual burden hours
Tribal Budget and Narrative Justification | 63 | 1 | 16 | 1,008

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 45 CFR 309.

Mary C. Jones,
ACF/OPRE Certifying Officer.

[FR Doc. 2026-02663 Filed 2-10-26; 8:45 am]

BILLING CODE 4184-41-P